DEPARTMENT OF STATE

[Public Notice: 12869]

Foreign Terrorist Organization Designation of Cartel de los Soles

Based upon a review of the Administrative Record assembled in this matter, and in consultation with the Attorney General and the Secretary of the Treasury, I have concluded that there is a sufficient factual basis to find that the relevant circumstances described in section 219 of the Immigration and Nationality Act, as amended (hereinafter “INA”) (8 U.S.C. 1189), exist with respect to: Cartel de los Soles (also known as Cartel of the Suns).

Therefore, I hereby designate the aforementioned organization and its respective aliases as a Foreign Terrorist Organization pursuant to section 219 of the INA.

This determination shall be published in the Federal Register. The designation goes into effect upon publication.

Dated: November 16, 2025.
Marco Rubio,
Secretary of State.

[FR Doc. 2025-20750 Filed 11-21-25; 8:45 am]

BILLING CODE 4710-AD-P